DEPARTMENT OF ENERGY

Notice of Competitive Financial Assistance Solicitation

AGENCY: Idaho Operations Office, Department of Energy.

ACTION: Notice of competitive financial assistance solicitation.

SUMMARY: The U.S. Department of Energy (DOE) Idaho Operations Office (ID) is seeking applications for innovative cost-shared research, development and demonstration of technologies that will enhance economic competitiveness, reduce energy consumption and reduce environmental impacts in the emerging renewable bioproducts industry. The proposed research and development (R&D) applications must address priorities of at least three out of the four key barrier areas; Plant Sciences, Production, Processing, and Utilization, as identified in the Technology Roadmap for Plant/Crop-Based Renewable Resources 2020.

DATES: The deadline for receipt of applications is 3:00 p.m. MST March 28, 2001.

ADDRESSES: The formal solicitation document will be disseminated electronically as Solicitation Number DE-PS07-01ID14039, Agriculture Industry of the Future Program, through the Industry Interactive Procurement System (IIPS) located at the following URL: http://e-center.doe.gov. IIPS provides the medium for disseminating solicitations, receiving financial assistance applications and evaluating the applications in a paperless environment. Completed applications are required to be submitted via IIPS. Individuals who have the authority to enter their company into a legally binding contract/agreement and intend to submit proposal/applications via the IIPS system must register and receive confirmation that they are registered prior to being able to submit an application on the IIPS system. An IIPs “User Guide for Contractors” can be obtained by going to the IIPS Homepage at the following URL: http://e-center.doe.gov and then clicking on the “Help” button. Questions regarding the operation of IIPS may be e-mailed to the IIPS Help Desk at IIPS Help Desk@e-center.doe.gov or call the help desk at (800) 683-0751.

FOR FURTHER INFORMATION CONTACT: Elaine Richardson, Contract Specialist, at richarem@id.doe.gov.

SUPPLEMENTARY INFORMATION: The statutory authority for this program is the Federal Non-Nuclear Energy Research & Development Act of 1974 (P.L. 93-577). The applications must link the R&D in each of the barrier areas selected, in an integrated and crosscutting approach, to achieve overall project objectives. (Two examples of such crosscutting efforts can be found on p. 25 and p. 26 overlaid on Figures 13 and 14 in the Technology Roadmap for Plant/Crop-Based Renewable Resources 2020.) This will require a multi-disciplinary collaboration. Multi-partner collaborations between industrial companies, growers, universities, non-profit groups and National Laboratories are encouraged. A minimum of two partners is required, with at least one being an industrial company. DOE anticipates making approximately 3 to 5 awards with total estimated DOE funding of up to $1.5 M per award per year, each with a duration of approximately 3-5 years.

Issued in Idaho Falls on January 16, 2001.
R. Jeffrey Hoyles,
Director, Procurement Services Division.

[FR Doc. 01-2470 Filed 1-26-01; 8:45am]

BILLING CODE 6450-01-P